DEPARTMENT OF ENERGY

Federal Energy Regulatory Commission

[Docket No. EG00-54-000, et al.];

Tenaska Alabama Partners, L.P., et al.; Electric Rate and Corporate Regulation Filings

May 12, 2000.

Take notice that the following filings have been made with the Commission:

1. Tenaska Alabama Partners, L.P.

[Docket Nos. EG00-54-000 and ER00-840-001]

Take notice that on May 4, 2000, Tenaska Alabama Partners, L.P., 1044 North 115th Street, Suite 400, Omaha, Nebraska 68154 (Tenaska Alabama) submitted for filing with the Federal Energy Regulatory Commission a notification of non-material change in status to the Tenaska Alabama partnership.

Comment date: June 1, 2000, in accordance with Standard Paragraph E at the end of this notice.

2. Cabrillo Power I LLC

[Docket No. ER00-2426-000]

Take notice that on May 8, 2000, Cabrillo Power I LLC (Cabrillo I), tendered for filing pursuant to Section 205 of the Federal Power Act, 16 U.S.C. § 824d, a revised Schedule A to the Reliability Must Run Agreement (the RMR Agreement) between Cabrillo I and the California Independent System Operator Corporation (the ISO) relating to the Encina generating plant at Carlsbad, California.

Cabrillo I states that the revisions to Schedule A correct certain inaccuracies in the figures for reactive power in the currently effective version, which was originally filed by San Diego Gas & Electric Company (SDG&E) which formerly operated the Encina plant. Cabrillo I further states that the corrections are acceptable to the ISO and to SDG&E, which, under the ISO Tariff, bears costs payable by the ISO under the RMR Agreement.

Cabrillo I states that it has served a copy of its filing on the California Public Utilities Commission.

Comment date: May 30, 2000, in accordance with Standard Paragraph E at the end of this notice.

3. California Independent System Operator Corporation

[Docket No. ER00-2427-000]

Take notice that on May 8, 2000, the California Independent System Operator Corporation (ISO), tendered for filing a Meter Service Agreement for Scheduling Coordinators between the ISO and PG&E Energy Trading—Power, L.P. for acceptance by the Commission.

The ISO states that this filing has been served on PG&E Energy Trading—Power, L.P., and the California Public Utilities Commission.

The ISO is requesting waiver of the 60-day notice requirement to allow the Meter Service Agreement to be made effective as of April 26, 2000.

Comment date: May 30, 2000, in accordance with Standard Paragraph E at the end of this notice.

4. California Independent System Operator Corporation

[Docket No. ER00-2428-000]

Take notice that on May 8, 2000, the California Independent System Operator Corporation, tendered for filing a Participating Generator Agreement between the ISO and GPU Solar, Inc., for acceptance by the Commission.

The ISO states that this filing has been served on GPU Solar, Inc., and the California Public Utilities Commission.

The ISO is requesting waiver of the 60-day notice requirement to allow the Participating Generator Agreement to be made effective May 1, 2000.

Comment date: May 30, 2000, in accordance with Standard Paragraph E at the end of this notice.

5. Unicom Energy, Inc.

[Docket ER00-2429-000]

Take notice that on May 8, 2000, Unicom Energy, Inc. (UEI), tendered for filing proposed market-based rate schedules for the sale of capacity and energy pursuant to negotiated agreements, together with a form of service agreement and a code of conduct to govern relationships with franchised public utilities.

UEI requests that the Commission accept these rate schedules for filing and grant such waivers of its regulations and blanket authorizations as the Commission has granted to power marketers and non-franchised public utilities with market-based rate authority.

Comment date: May 30, 2000, in accordance with Standard Paragraph E at the end of this notice.

6. Potomac Electric Power Company

[Docket No. ER00-2430-000]

Take notice that on May 8, 2000, Potomac Electric Power Company (Pepco), tendered for filing a service agreement pursuant to Pepco FERC Electric Tariff, Original Volume No. 5, entered into between Pepco and NewEnergy, Inc.

An effective date of May 1, 2000 for this service agreement, with waiver of notice, is requested.

Comment date: May 30, 2000, in accordance with Standard Paragraph E at the end of this notice.

7. Commonwealth Chesapeake Company, L.L.C.

[Docket No. ER00-2431-000]

Take notice that on May 8, 2000, Commonwealth Chesapeake Company, L.L.C. (Commonwealth Chesapeake), tendered for filing pursuant to Section 205 of the Federal Power Act, 16 U.S.C. 824d (1994), and Part 35 of the Commission's regulations, 18 CFR 35, revisions to its tariff to provide for sales of regulation service at market-based rates through the Pennsylvania-New Jersey-Maryland Interchange Energy Market (PJM PX). Commonwealth Chesapeake further proposes to amend its tariff to confirm the availability of operating reserves and energy imbalance service at market-based rates.

Commonwealth Chesapeake requests waiver of the prior notice requirements of Section 35.3 of the Commission's regulations, 18 CFR 35.3, to permit its filing to become effective as of June 1, 2000, or the date on which the PJM Interconnection, L.L.C. implements amendments to its Open Access Transmission Tariff and Operating Agreement regarding market-based pricing for regulation service.

Comment date: May 30, 2000, in accordance with Standard Paragraph E at the end of this notice.

8. Puget Sound Energy, Inc.

[Docket No. ER00-2432-000]

Take notice that on May 8, 2000, Puget Sound Energy, Inc., as Transmission Provider, tendered for filing a Service Agreement for Firm Point-To-Point Transmission Service (Firm Point-To-Point Service Agreement) and a Service Agreement for Non-Firm Point-To-Point Transmission Service (Non-Firm Point-To-Point Service Agreement) with Public Utility District No. 1 of Snohomish County (Snohomish PUD), as Transmission Customer.

A copy of the filing was served upon Snohomish PUD.

Comment date: May 30, 2000, in accordance with Standard Paragraph E at the end of this notice.

9. Duke Energy Corporation

[Docket No. ER00-2434-000]

Take notice that on May 8, 2000, Duke Energy Corporation (Duke) tendered for filing a Service Agreement with Enron Power Marketing, Inc., for Transmission Service under Duke's Open Access Transmission Tariff.

Duke requests that the proposed Service Agreement be permitted to become effective on February 16, 2000.

Duke states that this filing is in accordance with Part 35 of the Commission's Regulations and a copy has been served on the North Carolina Utilities Commission.

Comment date: May 30, 2000, in accordance with Standard Paragraph E at the end of this notice.

10. Ameren Services Company

[Docket No. ER00-2435-000]

Take notice that on May 8, 2000, Ameren Services Company (ASC), the transmission provider, tendered for filing two Service Agreements for Long-Term Firm Point-to-Point Transmission Services between ASC and Ameren Energy, Inc. as agent for Ameren Services Company (AE). ASC asserts that the purpose of the Agreements is to permit ASC to provide transmission service to AE pursuant to Ameren's Open Access Transmission Tariff filed in Docket No. ER 96-677-004.

Comment date: May 30, 2000, in accordance with Standard Paragraph E at the end of this notice.

11. Duke Energy Corporation

[Docket No. ER00-2436-000]

Take notice that on May 8, 2000, Duke Energy Corporation (Duke), tendered for filing a Service Agreement with LG&E Energy Marketing Inc., for Transmission Service under Duke's Open Access Transmission Tariff.

Duke requests that the proposed Service Agreement be permitted to become effective on April 28, 2000.

Duke states that this filing is in accordance with Part 35 of the Commission's Regulations and a copy has been served on the North Carolina Utilities Commission.

Comment date: May 30, 2000, in accordance with Standard Paragraph E at the end of this notice.

12. Wisconsin Energy Corporation Operating Companies

[Docket No. ER00-2437-000]

Take notice that on May 8, 2000, Wisconsin Energy Corporation Operating Companies tendered for filing notice that effective May 1, 2000, Service Agreement No. 8, under Wisconsin Energy Corporation Operating Companies' FERC Electric Tariff, Original Volume No. 1, is to be canceled.

Copies of the filing have been served on El Paso Merchant Energy, L. P., the Michigan Public Service Commission, and the Public Service Commission of Wisconsin.

Comment date: May 30, 2000, in accordance with Standard Paragraph E at the end of this notice.

13. Southern Company Services, Inc.

[Docket No. ER00-2438-000]

Take notice that on May 9, 2000, Southern Company Services, Inc. (SCS), by and on behalf of Alabama Power Company, Georgia Power Company, Gulf Power Company, Mississippi Power Company, and Savannah Electric and Power Company (collectively, Southern), tendered for filing a Notice of Cancellation of SCSI Rate Schedule No. 73. This rate schedule relates only to the Unit Power Sales Agreement between Southern and the City of Tallahassee, Florida, which expires by its terms on May 31, 2000. The Notice of Termination filed by Southern in the referenced docket seeks an effective date of May 31, 2000, the same date as set forth for termination in the underlying Unit Power Sales Agreement.

Comment date: May 30, 2000, in accordance with Standard Paragraph E at the end of this notice.

14. Consumers Energy Company

[Docket No. ER00-2439-000]

Take notice that on May 9, 2000, Consumers Energy Company (Consumers), tendered for filing a Facilities Agreement Between Consumers and Modular Power Systems, LLC, (Modular), dated May 1, 2000. Under the Facilities Agreement, Consumers is to construct, operate and maintain various protective, monitoring and metering facilities that will be needed in connection with the operation of generating facilities being constructed by Modular.

Consumers requests that the Facilities Agreement be allowed to become effective within 60 days after filing.

Copies of the filing were served upon Modular and upon the Michigan Public Service Commission.

Comment date: May 30, 2000, in accordance with Standard Paragraph E at the end of this notice.

15. El Paso Electric Company

[Docket No. ER00-2440-000]

Take notice that on May 9, 2000, El Paso Electric Company tendered for filing an amendment to two power sale agreements with Rio Grande Electric Cooperative.

Comment date: May 30, 2000, in accordance with Standard Paragraph E at the end of this notice.

16. Alliant Energy Corporate Services, Inc.

[Docket No. ER00-2441-000]

Take notice that on May 9, 2000, Alliant Energy Corporate Services, Inc., tendered for filing executed Service Agreements for short-term firm point-to-point transmission service and non-firm point-to-point transmission service, establishing Calpine Power Services Company as a point-to-point Transmission Customer under the terms of the Alliant Energy Corporate Services, Inc., transmission tariff.

Alliant Energy Corporate Services, Inc., requests an effective date of May 1, 2000, and accordingly, seeks waiver of the Commission's notice requirements.

A copy of this filing has been served upon the Illinois Commerce Commission, the Minnesota Public Utilities Commission, the Iowa Department of Commerce, and the Public Service Commission of Wisconsin.

Comment date: May 30, 2000, in accordance with Standard Paragraph E at the end of this notice.

17. Midwest Independent Transmission System Operator, Inc.

[Docket No. ER00-2442-000]

Take notice that on May 9, 2000, Midwest Independent Transmission System Operator, Inc., tendered for filing executed signature pages to the “Agreement of the Transmission Facilities Owners to Organize the Midwest Independent Transmission System Operator, Inc., A Delaware Non-Stock Corporation,” and the “Agency Agreement for Open Access Transmission Service Offered by the Midwest ISO for Nontransferred Transmission Facilities' executed by Madison Gas & Electric Company were filed with the Commission.

A copy of this filing was served on Public Service Commission of Wisconsin.

Comment date: May 30, 2000, in accordance with Standard Paragraph E at the end of this notice.

18. Central Maine Power Company

[Docket No. ER00-2443-000]

Take notice that on May 9, 2000, Central Maine Power Company (CMP), tendered for filing a service agreement for Non-firm Local Point-to-Point Transmission Service entered into with Constellation Power Source, Inc. Service will be provided pursuant to CMP's Open Access Transmission Tariff, designated rate schedule CMP—FERC Electric Tariff, Original Volume No. 3, as supplemented.

Comment date: May 30, 2000, in accordance with Standard Paragraph E at the end of this notice.

19. Florida Power & Light Company

[Docket No. ER00-2444-000]

Take notice that on May 9, 2000, Florida Power & Light Company (FPL), tendered for filing Service Agreements with Conectiv Energy Supply, Inc., Duke Energy Trading and Marketing, L.L.C., and Sempra Energy Trading Corp., for service pursuant to FPL's Market Based Rates Tariff.

FPL requests that the Service Agreements be made effective on April 12, 2000.

Comment date: May 30, 2000, in accordance with Standard Paragraph E at the end of this notice.

20. PJM Interconnection, L.L.C.

[Docket Nos. ER00-2445-000 and EL00-74-000]

Take notice that on May 8, 2000, PJM Interconnection, L.L.C. (PJM) submitted pursuant to Section 205 of the Federal Power Act (FPA), 16 U.S.C. 824d, the following revised sheets to Attachment K of PJM's Open Access Transmission Tariff (Tariff) on file with the Commission:

Fourth Revised Sheet No. 172

Third Revised Sheet No. 173

Second Revised Sheet No. 174

Original Sheet No. 174a

PJM also requests, pursuant to FPA Section 206, 16 U.S.C. § 824e, that the Commission order the same revisions to the same language as it appears on the following pages of Schedule 1 of the Amended and Restated Operating Agreement of PJM Interconnection, L.L.C. (OA):

Third Revised Page No. 41

Second Revised Page No. 42

Sixth Revised Page No. 43

Original Page No. 43a

PJM states that these Tariff and OA revisions are intended to forestall an abusive bidding tactic that is enabled by a market design flaw identified by PJM's Market Monitoring Unit (MMU), which last summer resulted in electric customers paying in excess of the maximum lawful price prescribed by the OA.

Comment date: June 2, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-12629 Filed 5-18-00; 8:45 am]

BILLING CODE 6717-01-P